DEPARTMENT OF HOMELAND SECURITY

Federal Emergency Management Agency

[Internal Agency Docket No. FEMA-4586-DR; Docket ID FEMA-2021-0001]

Texas; Amendment No. 5 to Notice of a Major Disaster Declaration

AGENCY: Federal Emergency Management Agency, DHS.

ACTION: Notice.

SUMMARY: This notice amends the notice of a major disaster declaration for the State of Texas (FEMA-4586-DR), dated February 19, 2021, and related determinations.

DATES: This amendment was issued September 13, 2021.

FOR FURTHER INFORMATION CONTACT: Dean Webster, Office of Response and Recovery, Federal Emergency Management Agency, 500 C Street SW, Washington, DC 20472, (202) 646-2833.

SUPPLEMENTARY INFORMATION: The notice of a major disaster declaration for the State of Texas is hereby amended to include additional categories of Public Assistance for the following areas determined to have been adversely affected by the event declared a major disaster by the President in his declaration of February 19, 2021.

Borden, Coke, Crosby, Dawson, Delta, Dickens, Edwards, Garza, Irion, Kimble, Lee, Lynn, Mason, Menard, Motley, Nolan, Real, Red River, San Augustine, Schleicher, and Sterling Counties for debris removal [Category A] and permanent work [Categories C-G] under the Public Assistance program (already designated for emergency protective measures [Category B], including direct federal assistance, under the Public Assistance program).

Austin, Bastrop, Blanco, Cherokee, DeWitt, Erath, Falls, Gillespie, Gonzales, Houston, Kerr, Lavaca, Leon, Llano, Milam, Nacogdoches, Palo Pinto, Sabine, Shelby, Taylor, Tom Green, Walker, and Washington Counties for debris removal [Category A] and permanent work [Categories C-G] under the Public Assistance program (already designated for Individual Assistance and emergency protective measures [Category B], including direct federal assistance, under the Public Assistance program).

Irion County for snow assistance under the Public Assistance program for any continuous 48-hour period during or proximate the incident period (already designated for emergency protective measures [Category B], including direct federal assistance, under the Public Assistance program).

Taylor County for snow assistance under the Public Assistance program for any continuous 48-hour period during or proximate the incident period (already designated for Individual Assistance and emergency protective measures [Category B], including direct federal assistance, under the Public Assistance program).

The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidentially Declared Disaster Areas; 97.049, Presidentially Declared Disaster Assistance—Disaster Housing Operations for Individuals and Households; 97.050 Presidentially Declared Disaster Assistance to Individuals and Households—Other Needs; 97.036, Disaster Grants—Public Assistance (Presidentially Declared Disasters); 97.039, Hazard Mitigation Grant.

Deanne Criswell,
Administrator, Federal Emergency Management Agency.

[FR Doc. 2021-22416 Filed 10-13-21; 8:45 am]

BILLING CODE 9111-23-P